DEPARTMENT OF TRANSPORTATION

Federal Highway Administration

Environmental Impact Statement, Washtenaw County, MI

AGENCY: Federal Highway Administration (FHWA), DOT.

ACTION: Notice of intent.

SUMMARY: The FHWA is issuing this Notice to advise the public that an Environmental Impact Statement will be prepared for reconstruction of US-12, from Saline east city limit to Munger Road in Washtenaw County, Michigan. The purpose of this notice is to update FHWA's August 27, 1992, Notice of Intent (Federal Register Vol. 57, No. 167) published for this same proposed project.

FOR FURTHER INFORMATION CONTACT: Mr. Ronald Hatcher, Federal Highway Administration, 315 W. Allegan Street, Room 207, Lansing, Michigan 48933, Telephone: (517) 702-1832 or Ms. Carolyn L. Nelson, Project Manager, Michigan Department of Transportation, P.O. Box 30050, Lansing, Michigan 48909, telephone: (517) 394-8642.

SUPPLEMENTARY INFORMATION: The FHWA, in cooperation with the Michigan Department of Transportation (MDOT), is preparing an Environmental Impact Statement (EIS) for reconstruction of US-12, an existing state trunkline, from Saline east city limits to Munger Road in Washtenaw County, Michigan. The proposed project is approximately seven (7) miles in length and is needed to make capacity improvements in this two-lane section to improve service in this rapidly developing area of south central Washtenaw County. The limits for the study extend along the existing state trunkline between the Saline east city limits to Munger Road to the northeast. Alternatives under consideration include: (1) Taking no action to improve the section of US-12 other than routine maintenance, (2) a five-lane cross section reconstruction of the existing two-lane roadway with two travel lanes in each direction and a center left-turn lane, (3) a divided cross section reconstruction of the existing roadway to a boulevard consisting of two travel lanes in each direction separated by a median, (4) a combination divided and five-lane cross section, and (5) a transit alternative to assess the feasibility of expanding the existing bus system and reduce projected highway travel demand in the corridor.

A Draft EIS was prepared for this project in 1994. However, due to project budget constraints at the state level, the document was not issued for public comment and the project was placed on hold. An agency scoping meeting and two public information meetings were held as part of that study. The US-12 Five-Lane Feasibility Study was completed in 2000 that evaluated the feasibility of a five-lane arterial for the project area. One public information meeting was held as part of that study to present preliminary results. Letters and a scoping document describing the proposed action and soliciting comments will be sent to appropriate federal, State, and local agencies, and to private organizations and citizens who have previously expressed or are known to have interests in this proposal. A scoping meeting with Federal, State, and local agencies will be held in the month of November 2001. The public involvement program will include newsletters, a telephone information line, focus group meetings, and a website. Public meetings will include a public scoping meeting to present the illustrative alternatives and an informational meeting to present the practical alternatives. The public scoping meeting will be advertised through local media. A public hearing will also be held. Public notice will be given of the time and place of the hearing. A final public meeting will be held following selection of the recommended alternative. The Draft Environmental Impact Statement is scheduled for completion in fall 2002, and will be made available for public and agency review and comment prior to the public hearing. The U.S. Environmental Protection Agency and the U.S. Fish and Wildlife Service are requested to be cooperating agencies on this project.

To ensure that the full range of issues related to this proposed action are addressed and all significant issues identified, comments and suggestions are invited from all interested parties. Such inquiries concerning this proposed action and the EIS should be directed to the FHWA at the address provided above.

Issued on: October 3, 2001.
James J. Steele,
Division Administrator, Lansing, Michigan.

[FR Doc. 01-25885 Filed 10-12-01; 8:45 am]

BILLING CODE 4910-22-M